DEPARTMENT OF HEALTH AND HUMAN SERVICES

Administration for Children and Families

Submission for OMB Review; Comment Request

Title: Multi-site Implementation Evaluation of Tribal Home Visiting (MUSE).

OMB No.: New Collection.

Description: The Administration for Children and Families (ACF) within the U.S. Department of Health and Human Services has launched a national multi-site evaluation of Tribal Maternal, Infant, and Early Childhood Home Visiting (TMIECHV) programs. MUSE is the first multi-site, multi-model study that will systematically explore how home visiting programs are operating across diverse tribal contexts and identify factors that lead to programs' success. The evaluation will provide information that will help the federal government design and support federal home visiting initiatives in tribal communities and similar populations. Evaluation findings will also assist programs with improving home visiting services for children and families. The aims of MUSE are to (1) identify and describe the primary influences shaping tribal home visiting program planning; (2) identify and describe how home visiting programs are being implemented; and (3) explore supports to home visiting implementation in tribal communities. To address these aims, the evaluation will gather data about participating home visiting programs from program staff and parent program participants and utilize administrative program data.

The current Notice is specific to data collection efforts needed to address the MUSE aims. Quantitative and qualitative data will be collected from program staff and parent program participants at each program site. Program sites will also submit local administrative data to the evaluation team. After obtaining informed consent from all respondents, data collection will include: (1) A Caregiver Enrollment Form, (2) a survey of caregivers receiving home visiting services at enrollment (baseline), (3) a follow-up survey of caregivers receiving home visiting services at 6 and 12 months, (4) a Rapid Reflect self-completed questionnaire completed by caregivers after selected home visits; (5) a Rapid Reflect self-completed questionnaire completed by home visitors after selected home visits; (6) a one-time survey of home visitors; (7) a one-time survey of program coordinators/managers; (8) a one-time survey of program directors; (9) a one-time survey of local program evaluators; (10) a one-time survey for program managers on program implementation, (11) qualitative interviews of home visitors at each site; (12) qualitative interviews of program coordinators/managers and program directors at each site; (13) qualitative interviews of local program evaluators at each site; (14) qualitative interviews of caregivers receiving home visiting services; (15) a log of implementation activities completed by program coordinators/managers on training, family group activities, and supervision; and 156 electronic compilation and submission of administrative program data.

All data collection will be used to generate information about how tribal home visiting program services are planned and delivered, and about what individual, organizational, community, and external factors support successful program implementation.

Respondents: Caregivers enrolled in TMIECHV programs and TMIECHV program staff (program directors, program coordinators/managers, home visitors, and local program evaluators).

Annual Burden Estimates: We will request approval for three years, which will accommodate an approximate 27 month data collection period and any potential delays in the data collection timeline.

Instrument | Total number of respondents | Annual number of respondents | Number of responses per respondent | Average burden hours per response | Annual burden hours
Caregiver Enrollment Form | 93 | 31 | 14 | .08 | 35
Caregiver Survey—Baseline | 565 | 188 | 1 | .25 | 47
Caregiver Survey—6 & 12 Month Follow-up | 380 | 127 | 2 | .50 | 127
Rapid Reflect Self-Completed Home Visit Questionnaire for Caregivers | 1,136 | ¹ 568 | 6 | .08 | 273
Rapid Reflect Self Completed Home Visit Questionnaire for Home Visitors | 93 | ¹ 47 | 66 | .2 | 620
Home Visitor Survey | 81 | 27 | 1 | 1.17 | 32
Program Coordinator/Manager Survey | 21 | 7 | 1 | 1 | 7
Program Director Survey | 21 | 7 | 1 | .75 | 5
Local Program Evaluator Survey | 30 | 10 | 1 | .5 | 5
Program Implementation Survey | 34 | 11 | 1 | .25 | 3
Qualitative Interviews of Home Visitors | 42 | 14 | 1 | 2 | 28
Qualitative Interviews of Program Coordinators/Managers and Program Directors | 34 | 11 | 1 | 1.5 | 17
Qualitative Interviews of Local Program Evaluators | 30 | 10 | 1 | 1.5 | 15
Qualitative Interviews of Caregivers | 51 | 17 | 1 | 1 | 17
Implementation Logs | 17 | ¹ 9 | 24 | .67 | 145
Administrative Program Data | 17 | ¹ 9 | 4 | 24 | 864
¹ The annual number of respondents is annualized over 2 years for instruments that are completed by respondents on an ongoing basis.

Estimated Total Annual Burden Hours: 2,240.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Emily B. Jabbour,
ACF/OPRE Certifying Officer.

[FR Doc. 2018-17121 Filed 8-9-18; 8:45 am]

BILLING CODE 4184-74-P